DEPARTMENT OF COMMERCE

Bureau of the Census

Proposed Data Sharing Activity

AGENCY: Bureau of the Census, Department of Commerce.

ACTION: Notice and request for public comment.

SUMMARY: The Bureau of the Census (Census Bureau) conducts the Survey of Industrial Research and Development (R&D) under a joint partnership agreement with the National Science Foundation (NSF). The U.S. Census Bureau proposes to provide data collected from the 2004-2009 R&D surveys to the Bureau of Economic Analysis (BEA) for statistical purposes exclusively. In accordance with the requirement of Section 524(d) of the Confidential Information Protection and Statistical Efficiency Act of 2002 (CIPSEA), we are providing the opportunity for public comment on this data-sharing action. Through the use of these shared data, the BEA will augment its existing R&D-related data, identify data quality issues arising from reporting differences in the BEA and Census Bureau surveys, and improve its survey sample frames. The NSF will be provided non-confidential aggregate data (public use) and reports that have cleared Census Bureau disclosure review. Disclosure review is a process conducted to verify that the data to be released do not reveal any confidential information.

DATES: Written comments must be submitted on or before October 15, 2007.

ADDRESSES: Please direct all written comments on this proposed program to the Director, U.S. Census Bureau, 4600 Silver Hill Road, Washington, DC 20233-0100.

FOR FURTHER INFORMATION CONTACT: Requests for additional information on this proposed program should be directed to Mr. Richard Hough, Special Studies Branch, Manufacturing and Construction Division, U.S. Census Bureau, 4600 Silver Hill Road, Washington, DC 20233-6900, by phone on (301) 763-4823 or by fax (301) 763-7783.

SUPPLEMENTARY INFORMATION:

Background

CIPSEA (Pub. L. 107-347, Subtitle V) allows the Census Bureau and the BEA to share certain business data for exclusively statistical purposes. Section 524(d) of the Act requires a Federal Register notice announcing the intent to share data (allowing 60 days for public comment).

Section 524(d) also requires the Census Bureau to provide information about the terms of the agreement for data sharing. For purposes of this notice, the Census Bureau has decided to group these terms by three categories. The categories are:

• Shared data.

• Statistical purposes for the shared data.

• Data access and confidentiality.

Shared Data

The Census Bureau proposes to provide the BEA with data collected from the 2004-2009 R&D surveys. The agreement also calls for the BEA to share data from its Foreign Direct Investment in the United States and U.S. Direct Investment Abroad surveys with the Census Bureau. The BEA has issued a separate notice addressing this activity.

The BEA will use these data for statistical purposes exclusively. Through record linkage, the BEA will augment its existing R&D-related data, identify data quality issues arising from reporting differences in the BEA and Census Bureau surveys, and improve its survey sample frames.

Statistical Purposes for the Shared Data

The data collected from the R&D estimate the expenditures of research and development performed by United States-based industrial firms. The survey is conducted annually, however, the proposed data to be shared are from the 2004-2009 surveys only. Statistics from the annual surveys are published in the NSF's annual publication series “Research and Development in Industry.” Data collected by this survey include company characteristics and R&D spending information. Characteristics data include net sales, total employment, and employment of scientists and engineers. R&D spending data include the following: Total spending; federally funded (total and by agency) spending for basic and applied R&D, for basic research by field, and for applied R&D by product group; R&D spending by state; and R&D financed by domestic firms but performed abroad. All data are collected under Sections 131, 182, 224, and 225 of Title 13, United States Code (U.S.C.).

Benefits

The aggregated data will provide a more integrated data set on R&D performance and funding with domestic and foreign ownership detail and will lead to a more complete account of international aspects of R&D performance and funding, and related economic activity, both in the United States and abroad. The Census Bureau will also be able to improve the sample frame for the R&D by adding companies identified in the BEA frames not currently accounted for in the sample. The Census Bureau will be able to identify possible data quality issues by investigating reporting differences contained within the files which will lead to improved survey estimates.

Data Access and Confidentiality

Section 9 of Title 13, U.S.C., protects the confidentiality of these data. The data may be seen only by persons sworn to uphold the confidentiality of the information. Access to the shared data will be restricted to specifically authorized personnel and will be provided for statistical purposes only. All BEA employees with access to these data will attain Census Bureau Special Sworn Status (SSS), per Section 23(c) of Title 13, U.S.C., which provides that they, under penalty of law, must uphold the data's confidentiality. Selected NSF employees will provide the BEA with expertise on the aspects of R&D performance in the United States and by U.S. companies abroad; these NSF consultants assisting with the work at the BEA also will attain Census Bureau SSS. No confidential data will be provided to the NSF. To further safeguard the confidentiality of the data, the Census Bureau will conduct an Information Technology security review of the BEA prior to sharing any data files. Any results of this research are subject to Census Bureau disclosure protection.

Dated: August 10, 2007.
Charles Louis Kincannon,
Director, Bureau of the Census.

[FR Doc. E7-16141 Filed 8-15-07; 8:45 am]

BILLING CODE 3510-07-P